DEPARTMENT OF JUSTICE

Notice of Lodging of Consent Decree Under the Clean Air Act

Notice is hereby given that on February 19, 2009, a proposed Sixth Amendment to the Consent Decree entered in United States v. BP Exploration and Oil Co., et al., (Civil No. 2:96 CV 095 RL), was lodged with the United States District Court for the Northern District of Indiana.

This settlement relates to BP Products North America Inc.'s (“BP Products”) petroleum refinery located in Texas City, Texas (the “Texas City Refinery”).

The United States alleges civil claims under the Clean Air Act (“CAA”) against BP Products for violations at the Texas City Refinery of the National Emission Standard for Hazardous Air Pollutants for Benzene Waste Operations, 40 CFR Part 61, subpart FF; the Recycling and Emissions Reduction Regulations for Refrigerants, 40 CFR Part 82, subpart F, part of the Act's stratospheric ozone protection program; and the National Emission Standard for Hazardous Air Pollutants for Asbestos, 40 CFR Part 61, subpart M. The United States also alleges that BP Products violated, at the Texas City Refinery, provisions of the original civil Consent Decree entered in the above-referenced matter that incorporated requirements of 40 CFR part 61, subpart FF. The United States' CAA claims are stated in the supplemental counts of the Supplemental Third Amended Complaint also filed on February 19, 2009 in the above-referenced matter.

Under the proposed Sixth Amendment to the Consent Decree, BP Products will perform injunctive relief to: (1) Eliminate or minimize emissions of benzene at the Texas City Refinery; (2) eliminate or minimize the emission of Ozone Depleting Substances (“ODS”) from regulated cooling appliances at the Texas City Refinery; and (3) ensure that Asbestos-Containing Materials (“ACM”) at the Texas City Facility are identified, managed, handled, and disposed of properly so as to minimize the emission of asbestos.

Under the proposed Sixth Amendment to the Consent Decree, BP Products will also pay a civil penalty to the United States in the amount of $12 million and perform a $6-million Supplemental Environmental Project (“SEP”) to convert heavy-duty diesel and other gasoline-powered vehicles owned and/or operated by the City of Texas City, Texas and the Texas City Independent School District so as to operate on compressed natural gas (“CNG”) or liquified natural gas (“LNG”).

The Department of Justice will receive comments relating to the Sixth Amendment to the Consent Decree for a period of thirty (30) days from the date of this publication. Comments should be addressed to the Acting Assistant Attorney General, Environment and Natural Resources Division, and either e-mailed to pubcomment-ees.enrd@usdoj.gov or mailed to P.O. Box 7611, U.S. Department of Justice, Washington, DC 20044-7611, and should refer to United States v. BP Exploration & Oil Co., et al., D.J. Ref. 90-5-2-1-07109.

The Sixth Amendment to the Consent Decree may be examined at the Office of the United States Attorney, Northern District of Indiana, 5400 Federal Plaza, Suite 1500, Hammond, IN 46320, and at U.S. EPA Region 6, 1445 Ross Avenue, Dallas, Texas 75202. During the public comment period, the Sixth Amendment to the Consent Decree may also be examined on the following Department of Justice Web site: http://www.usdoj.gov/enrd/Consent_Decrees.html. A copy of the Sixth Amendment to the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $32.75 (25 cents per page reproduction cost) for the Sixth Amendment to the Consent Decree payable to the U.S. Treasury.

Maureen M. Katz,
Assistant Chief, Environmental Enforcement Section, Environment and Natural Resources Division.

[FR Doc. E9-3995 Filed 2-24-09; 8:45 am]

BILLING CODE 4410-15-P